DEPARTMENT OF THE INTERIOR

Bureau of Indian Affairs

[190A2100DD/AAKC001030/A0A501010.999900 253G]

Advisory Board for Exceptional Children

AGENCY: Bureau of Indian Affairs, Interior.

ACTION: Notice of meeting.

SUMMARY: The Bureau of Indian Education (BIE) is announcing a public meeting of the Advisory Board for Exceptional Children in order to meet the mandates of the Individuals with Disabilities Education Act of 2004 (IDEA) for Indian children with disabilities.

DATES: The Advisory Board will hold an orientation session for members only on Wednesday, January 16, 2019, from 8:30 a.m. to 11:30 a.m. (Mountain Time). The public meeting of the Advisory Board will start with the Southwestern Indian Polytechnic Institute (SIPI) personnel on Wednesday, January 16, 2019, from 1:00 p.m. to 4:30 p.m. and meet in-session on Thursday, January 17, 2019, and Friday, January 18, 2019, from 8:30 a.m. to 4:30 p.m.

ADDRESSES: On Wednesday, January 16, 2019, the Orientation session will be held at 1011 Indian School Road NW, Room 234, Albuquerque, NM 87104; and the Southwestern Indian Polytechnic Institute meeting will be located on campus in the Hogan Building at 9169 Coors Boulevard NW, Albuquerque, NM 87120. On Thursday, January 17, 2019, the Advisory Board meeting will be held 1011 Indian School Road NW, Room 234, Albuquerque, NM; and on Friday, January 18, 2019, the Advisory Board meeting will be held at 1011 Indian School Road NW, in the Large Conference Room on the 3rd Floor, Room 326, Albuquerque, NM.

FOR FURTHER INFORMATION CONTACT: Jennifer Davis, Designated Federal Officer, Bureau of Indian Education, 2600 N Central Avenue, Suite 800, Phoenix, Arizona 85004, email at Jennifer.davis@bie.edu or telephone number (480) 777-7986.

SUPPLEMENTARY INFORMATION: In accordance with the Federal Advisory Committee Act, the BIE is announcing that the Advisory Board will hold its next meeting in Albuquerque, New Mexico. The Advisory Board was established under the Individuals with Disabilities Act of 2004 (20 U.S.C. 1400 et seq.) to advise the Secretary of the Interior, through the Assistant Secretary—Indian Affairs, on the needs of Indian children with disabilities. The meeting is open to the public.

The following items will be on the agenda:

• An orientation session will be provided to new Advisory Board members.

• The Advisory Board will meet with SIPI personnel to inquire about mission and articulation agreements with 4-year post-secondary schools for teacher preparation programs within BIE.

• Meet with BIE Senior management to discuss special education topics related to students with disabilities.

• Work on priorities, advice and recommendations for 2019.

• Public Comment Period on Friday, January 18, 2019 from 3-3:30 p.m.

The final agenda will be posted to the Advisory Board's website at https://www.bie.edu/Programs/SpecialEd/AdvisoryBoard/index.htm.

Interested members of the public may submit relevant information or questions for the Board to consider during the public meeting. Written comments received in advance of the meeting will be made available to the Advisory Board for their consideration. Written comments can be emailed to the DFO at jennifer.davis@bie.edu; or faxed to (602) 265-0293, Attention: Jennifer Davis, DFO; or mailed or hand delivered to the Bureau of Indian Education, Attention: Jennifer Davis, DFO, 2600 N Central Avenue, Suite 800, Phoenix, Arizona 85004.

Individuals wishing to make an oral comment during the time reserved for public comment should contact the DFO (see FOR FURTHER INFORMATION CONTACT).

Before including your address, phone number, email address, or other personal identifying information in your comment, you should be aware that your entire comment—including your personal identifying information—may be made publicly available at any time. While you can ask us in your comment to withhold your personal identifying information from public review, we cannot guarantee that we will be able to do so.

Authority: 5 U.S.C. Appendix 5; 20 U.S.C. 1400 et seq.

Dated: December 21, 2018.
Tara Sweeney,
Assistant Secretary—Indian Affairs.

[FR Doc. 2018-28368 Filed 12-31-18; 8:45 am]

BILLING CODE 4337-15-P